SURFACE TRANSPORTATION BOARD

[Docket No. EP 670 (Sub-No. 3)]

Renewal of Rail Energy Transportation Advisory Committee

AGENCY: Surface Transportation Board.

ACTION: Notice of intent to renew charter.

SUMMARY: In accordance with the Federal Advisory Committee Act, notice is hereby given that the Surface Transportation Board (Board) intends to renew the charter of the Rail Energy Transportation Advisory Committee (RETAC).

ADDRESSES: A copy of the charter is available on the Board's website at https://www.stb.gov/resources/stakeholder-committees/retac/.

FOR FURTHER INFORMATION CONTACT: Kristen Nunnally, Designated Federal Officer, at (202) 245-0312. If you require an accommodation under the Americans with Disabilities Act, please call (202) 245-0245.

SUPPLEMENTARY INFORMATION: RETAC was established by the Board on September 24, 2007, to provide advice and guidance to the Board, on a continuing basis, and to provide a forum for the discussion of emerging issues and concerns regarding the transportation by rail of energy resources, including, but not necessarily limited to, coal and biofuels (such as ethanol), and petroleum. RETAC functions solely as an advisory body and complies with the provisions of the Federal Advisory Committee Act (FACA), 5 U.S.C. 10, and its implementing regulations.

RETAC consists of approximately 27 voting members, excluding governmental representatives. The membership embraces a balanced representation of individuals experienced in issues affecting the transportation of energy resources, including no fewer than: 4 representatives from the Class I railroads; 3 representatives from Class II and III railroads; 3 representatives from coal producers; 5 representatives from electric utilities (including at least one rural electric cooperative and one state- or municipally-owned utility); 4 representatives from biofuel feedstock growers or providers and biofuel refiners, processors, and distributors; 2 representatives from private car owners, car lessors, or car manufacturers; 1 representative from the petroleum shipping industry; 2 representatives from renewable energy sources; and 1 representative from a labor organization. The Committee may also include up to two members with relevant experience but not necessarily affiliated with one of the aforementioned industries or sectors. All voting members of the Committee serve in a representative capacity on behalf of their respective industry or stakeholder groups. The members of the Board are ex officio (non-voting) members of RETAC. Representatives from the U.S. Departments of Agriculture, Energy, and Transportation, and the Federal Energy Regulatory Commission may be invited to serve on the Committee in an advisory capacity as ex officio (non-voting) members. Non-voting members of RETAC may consist of regular government employees and, in some circumstances, special government employees.

RETAC meets at least twice a year, and meetings are open to the public, consistent with the Government in the Sunshine Act, Public Law 94-409 (1976).

Further information about RETAC is available on the Board's website (https://www.stb.gov/resources/stakeholder-committees/retac/) and at the General Services Administration's FACA database (https://facadatabase.gov/).

Decided: September 20, 2023.
By the Board, Scott M. Zimmerman, Acting Director, Office of Proceedings.
Kenyatta Clay,
Clearance Clerk.

[FR Doc. 2023-20764 Filed 9-25-23; 8:45 am]

BILLING CODE 4915-01-P